DEPARTMENT OF THE TREASURY

Agency Information Collection Activities; Proposed Collection; Comment Request; Application, Reports, and Recordkeeping for the Social Impact Partnerships To Pay for Results Act (SIPPRA) Grant Program

AGENCY: Office of Economic Policy, Treasury.

ACTION: Notice and request for comments.

SUMMARY: The Department of the Treasury, as part of its continuing effort to reduce paperwork and respondent burden, invites the general public and other federal agencies to take this opportunity to comment on proposed information collection, as required by the Paperwork Reduction Act of 1995. Currently, the Office of Economic Policy, within the Department of the Treasury, is soliciting comments concerning the application, reports, and recordkeeping forms to be used for the Social Impact Partnerships to Pay for Results Act (SIPPRA).

DATES: Written comments should be received on or before April 2, 2019 to be assured of consideration. This process is conducted in accordance with 5 CFR 1320.1.

ADDRESSES: Send comments regarding the burden estimate, or any other aspect of the information collection, including suggestions for reducing the burden, by electronic mail to the Department of the Treasury, Room 3445, 1500 Pennsylvania Ave. NW, Washington, DC 20020, Attention: William Girardo, SIPPRA Coordinator, or sent via electronic mail to William.Girardo@Treasury.gov.

FOR FURTHER INFORMATION CONTACT: A copy of this ICR, with applicable supporting documentation, may be obtained by contacting the Department of the Treasury, Room 3445, 1500 Pennsylvania Ave. NW, Washington, DC 20020, Attention: William Girardo, SIPPRA Coordinator, 202-62200260, or sent via electronic mail to William.Girardo@Treasury.gov.

SUPPLEMENTARY INFORMATION:

Agency: Office of Economic Policy, Treasury.

Title: Application, Reports, and Recordkeeping for the Social Impact Partnerships to Pay for Results Act (SIPPRA) Grant Program.

OMB Number: 1505-XXXX.

Type of Review: Request for a new OMB Control Number.

Description: The Social Impact Partnerships to Pay for Results Act (SIPPRA), enacted February 9, 2018, amends Title XX of the Social Security Act, 42 U.S.C. 1397 et seq., to provide $100 million in funding to implement “Social Impact Partnership Demonstration Projects” (projects) and feasibility studies for such projects. SIPPRA authorizes the Secretary of the Treasury to enter into award agreements with state or local governments for SIPPRA projects and feasibility studies. The Department of the Treasury, in partnership with other federal agencies, will administer the SIPPRA grant program.

Authorized under the Bipartisan Budget Act of 2018, the Social Impact Partnerships to Pay for Results Act (SIPPRA), amends Title XX of the Social Security Act, 42 U.S.C. 1397 et seq., to provide $100 million in funding to implement “Social Impact Partnership Demonstration Projects” (projects) and feasibility studies to assist states and local governments in applying for project funding. SIPPRA authorizes the Secretary of the Treasury (Secretary) to enter into award agreements with state or local governments for projects addressing entrenched social problems. SIPPRA requires Treasury to conduct a request for proposals for projects, make award decisions, and enter into project award agreements. Treasury is publishing a Notice of Funding Availability (NOFA) seeking applications for projects, and anticipates that ten or more persons will respond to its notice announcing availability of funding for SIPPRA projects.

Although Treasury is asking applicants to use the SF-424 family of common forms for their applications, in order to effectively and efficiently assess and evaluate applications and ensure that projects comply with statutory requirements, Treasury is also soliciting additional detailed information from applicants. This request only includes the burden for this additional information. The burden for the SF-424 forms is covered under OMB Control Numbers 4040-0004, 4040-0006, 4040-0007, 4040-0008, 4040-0009, 4040-0010, and 4040-0013. The additional information includes the following components:

• Notice of Intent to Apply;

• Project Narrative, to include an Executive Summary;

• Project Narrative Attachments, to include project budget, partnership agreements, partner qualifications, independent evaluator qualifications, evaluation design plan, independent evaluator contract, outcome valuation (for which Treasury's SIPPRA website will provide a tool to assist applicants), legal compliance, and (optional) additional supporting documentation such as a preexisting feasibility study;

• DUNS Number and SAM registration;

• Copy of application proposing privileged or confidential information to be redacted;

• Administrative Reporting, including Annual Performance Report, Evaluation Progress Reports, and Final Evaluation Report;

• Records Retention

Evaluation Activity

One of the statutory purposes of SIPPRA is “to incorporate outcomes measurement and randomized controlled trials or other rigorous methodologies for assessing program impact.” 42 U.S.C. 1397n. SIPPRA also requires that the federal government pay a recipient only after an independent evaluator determines a project “has met the requirements specified in the agreement and achieved an outcome as a result of the intervention.” § 1397n-2(c)(2). It also establishes a Federal Interagency Council on Social Impact Partnerships (Interagency Council), chaired by the Director of OMB, with ten members representing ten Federal agencies.¹ Among their responsibilities, the Council must:

¹ The head of each of the following federal agencies shall designate one officer or employee to be a Council member: Departments of Labor, Health and Human Services, Agriculture, Justice, Housing and Urban Development, Education, Veterans Affairs, and Treasury, and the Social Security Administration Corporation for National and Community Service. § 1397n-5(b).

prior to approval by the Secretary, certify that each State and local government application for a social impact partnership contains rigorous, independent data and reliable, evidence-based research methodologies to support the conclusion that the project will yield savings to the State or local government or the Federal Government if the project outcomes are achieved;

certify to the Secretary that each State or local government that has entered into an agreement with the Secretary for a social impact partnership project under this division and each evaluator selected by the head of the relevant agency under section 1397n-4 of this title has access to Federal administrative data to assist the State or local government and the evaluator in evaluating the performance and outcomes of the project; and

certify to the Secretary, in the case of each approved social impact partnership that is expected to yield savings to the Federal Government, that the project will yield a projected savings to the Federal Government if the project outcomes are achieved, and coordinate with the relevant Federal agency to produce an after-action accounting once the project is complete to determine the actual Federal savings realized, and the extent to which actual savings aligned with projected savings ²

² § 1397n-5(a).

To help ensure that these statutory goals and objectives are achieved and to assist the Interagency Council in making its certification determinations, Treasury is asking applicants to include in their applications an evaluation design plan. The design plan must incorporate an evaluation methodology and evidence standards. Additionally, they must provide an estimate of the value to the federal government of the interventions being proposed in the project.

Independent Evaluator Reports

SIPPRA requires the federal government to complete certain project evaluation duties, including the collection from award recipients of periodic project outcome evaluation reports and final reports produced by each project's independent evaluator. SIPPRA § 1397n-4(d) and (e).

Use of the Data

Treasury is publishing a Notice of Funding Availability soliciting applications for projects under SIPPRA. The information collected under this NOFA: (1) Identifies eligible recipients and activities; (2) helps identify which applications sufficiently address all statutory requirements and which proposed projects are the most competitive; (3) determines the appropriate amount of funding; (4) ensures compliance with SIPPRA and Federal laws and policies on grants (Office of Management and Budget's Uniform Administrative Requirements, Cost Principles, and Audit Requirements for Federal Awards 2 CFR 200, herein OMB Uniform Guidance); (5) tracks recipients' progress; and (6) collects statutorily mandated reports prepared by recipients' contracted independent evaluators.

• The Notice of Intent is optional; it will assist Treasury and the Interagency Council in determining the number of applications to be received, and thus, enable them to conduct intake and evaluation of applications as efficiently and economically as possible.

• The application Executive Summary will assist Treasury and the Interagency Council in streamlining the processing of applications and in optimizing the eligibility phase of application review. The application Standard Forms, Project Narrative, and Project Narrative attachment components of the grant application are intended to provide Treasury with the information necessary to properly evaluate and assess applications and to make sure applications include statutorily mandated information. Additionally, certain components of the application, and in particular, the Outcome valuation, will enable the Interagency Council to determine whether to make statutorily mandated certifications regarding the proposed projects.

• The DUNS number and the SAM registration are both required under Uniform Administrative Requirements, Cost Principles, and Audit Requirements for Federal Awards (Uniform Guidance) at 2 CFR part 200.

• To comply with Uniform Guidance performance and financial monitoring and reporting requirements, 2 CFR 200.327-200.329, Treasury is requiring an annual performance and financial report from grant recipients. SIPPRA requires that recipients submit progress reports prepared by an independent evaluator on a periodic basis and before the schedule time of outcome payments. SIPPRA § 1397n-4(d). SIPPRA also requires that recipients submit a final report prepared by an independent evaluator within six months of a project's completion. SIPPRA § 1397n-4(e). Per the statute, Treasury and the Interagency Council will use these reports to determine if outcome payments are warranted.

• Treasury is requiring recipients under this NOFA to comply with the Uniform Guidance's record retention requirement, 2 CFR 200.333, which requires them to maintain records for three years after grant close-out.

SIPPRA establishes a Commission on Social Impact Partnerships (Commission) whose principal obligation is to make recommendations to Treasury regarding the funding of SIPPRA demonstration project and feasibility studies. SIPPRA § 1397n-6. The Commission is subject to the provisions of the Federal Advisory Committee Act (FACA), which generally requires that documents made available to the Commission be made available for public inspection and copying. 5 U.S.C. App. 2 10(b). Treasury expects to provide to the Commission all complete applications received under this NOFA from eligible applicants and expects to make these applications available for public inspection and copying. However, FACA also provides that trade secrets and commercial or financial information that is privileged or confidential under the Freedom of Information Act (confidential business information) need not be made publicly available. 5 U.S.C. 552(b)(4). To assist Treasury in complying with FACA's public disclosure requirements while protecting confidential business information in accordance with FACA, Treasury is requesting applicants to propose redactions of confidential business information. An applicant may omit pages for which it does not propose any redactions. Treasury will review the redactions proposed by each applicant.

Also, applicants must provide qualifications of key project personnel and partners. They may voluntarily provide curriculum vitae for key project personnel and partners, but the application does not require that personally identifiable information (PII) is collected.

Frequency: Once, On Occasion.

Affected Public: State, Local, or Tribal Governments.

Estimated Number of Respondents: 50.

Estimated Time per Respondent: 43.8 hours.

Estimated Annual Responses: 50.

Estimated Total Annual Burden Hours: 2,190.

Request for Comments: Comments submitted in response to this notice will be summarized and included in the request for Office of Management and Budget approval. Comments may become a matter of public record. The public is invited to submit comments concerning: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including the use of automated collection techniques or other forms of information technology; and (e) estimates of capital or start-up cost and cost of operation, maintenance, and purchase of services to provide information.

Authority: 44 U.S.C. 3501 et seq.

Dated: January 29, 2019.
Diana Furchtgott-Roth,
Acting Assistant Secretary for Economic Policy.

[FR Doc. 2019-00790 Filed 1-31-19; 8:45 am]

BILLING CODE 4810-25-P